DEPARTMENT OF THE INTERIOR

Bureau of Ocean Energy Management

[Docket No. BOEM-2021-0003]

Notice of Availability of the Proposed Notice of Sale for Cook Inlet Oil and Gas Lease Sale 258

AGENCY: Bureau of Ocean Energy Management, Interior.

ACTION: Notice of availability of the proposed notice of sale for Cook Inlet Oil and Gas Lease Sale 258.

SUMMARY: The Bureau of Ocean Energy Management (BOEM) announces the availability of the Proposed Notice of Sale (NOS) for the proposed Cook Inlet Oil and Gas Lease Sale 258 (Cook Inlet Sale 258). Cook Inlet Sale 258 is required to be held by the Inflation Reduction Act of 2022. BOEM is publishing this notice pursuant to its regulatory authority. Regarding oil and gas leasing on the Outer Continental Shelf, the Secretary of the Interior, pursuant to the Outer Continental Shelf Lands Act, provides the Governor of Alaska and the executive of any affected local government the opportunity to comment on the proposed sale's size, timing, and location. The Proposed NOS describes the proposed size, timing, and location of the sale, including lease stipulations, terms and conditions, minimum bids, royalty rates, and rental rates.

DATES: Comments received from the Governor and the executive of any affected local government on the size, timing, and location of Cook Inlet Sale 258 must be submitted to BOEM no later than November 22, 2022. BOEM will publish the Final NOS in the Federal Register at least 30 days prior to the date of public bid opening. Bid opening is currently scheduled for December 30, 2022.

ADDRESSES: The Proposed NOS for Cook Inlet Sale 258 and other information essential to potential bidders may be obtained from the Leasing Section, Alaska Region, Bureau of Ocean Energy Management, 3801 Centerpoint Drive, Suite 500, Anchorage, AK 99503; telephone: 907-334-5200. The Proposed NOS and other related information also are available for downloading or viewing on BOEM's website at https://www.boem.gov/ak258.

FOR FURTHER INFORMATION CONTACT: Joel Immaraj, Alaska Regional Supervisor, Office of Leasing and Plans, 907-334-5238, joel.immaraj@boem.gov or Andrew Krueger, Chief, Sales Coordination Branch, Office of Strategic Resources, 703-787-1554, andrew.krueger@boem.gov.

Authority: This notice of sale is published pursuant to 43 U.S.C. 1331 et seq. (Outer Continental Shelf Lands Act, as amended) and 30 CFR 556.304(c).

Amanda Lefton,
Director, Bureau of Ocean Energy Management.

[FR Doc. 2022-20692 Filed 9-22-22; 8:45 am]

BILLING CODE 4310-MR-P